DEPARTMENT OF LABOR

Employment and Training Administration

[TA-W-58,047]

Plasti-Coil, Inc.; Lake Geneva, WI; Notice of Negative Determination Regarding Application for Reconsideration

By application of December 8, 2005 a petitioner requested administrative reconsideration of the Department's negative determination regarding eligibility for workers and former workers of the subject firm to apply for Trade Adjustment Assistance (TAA) and Alternative Trade Adjustment Assistance (ATAA). The denial notice was signed on November 10, 2005 and published in the Federal Register on December 6, 2005 (70 FR 72653).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers at Plasti-Coil, Inc., Lake Geneva, Wisconsin engaged in production of custom injection molding was denied because the “contributed importantly” group eligibility requirement of Section 222 of the Trade Act of 1974 was not met, nor was there a shift in production from that firm to a foreign country. The “contributed importantly” test is generally demonstrated through a survey of the workers' firm's declining customers. The survey revealed no increase in imports of custom injection molding. The subject firm did not import custom injection molding in the relevant period, nor did it shift production to a foreign country.

In the request for reconsideration, the petitioner alleges that the layoffs at the subject firm are attributable to a shift in production to China. To support the allegations, the petitioner attached a copy of the letter from the subject firm's company official stating that “a significant portion of the business has been transferred to China”.

A company official was contacted regarding the above allegations. The company official confirmed what was revealed during the initial investigation. In particular, the official stated that Plasti-Coil, Inc., Lake Geneva, Wisconsin was contemplating to move portion of its production to China, however, the shift did not occur and there are no current plans to move production from the subject firm to a foreign country. The official further clarified that the letter mentioned by the petitioner meant that the subject firm's customers transferred significant volumes of their business to China and other Asian countries, which had a negative impact on production of the subject firm. The subject firm did not shift production of custom injection molding abroad.

Conclusion

After review of the application and investigative findings, I conclude that there has been no error or misinterpretation of the law or of the facts which would justify reconsideration of the Department of Labor's prior decision. Accordingly, the application is denied.

Signed at Washington, DC this 13th day of January, 2006.
Elliott S. Kushner,
Certifying Officer, Division of Trade Adjustment Assistance.

[FR Doc. E6-801 Filed 1-23-06; 8:45 am]

BILLING CODE 4510-30-P